DEPARTMENT OF COMMERCE

National Oceanic and Atmospheric Administration

Agency Information Collection Activities; Submission to the Office of Management and Budget (OMB) for Review and Approval; Comment Request; Generic Clearance for Economic Surveys of the Commercial and Charter Harvesting Sectors of Federally Managed Fisheries: Mariana Archipelago Small Boat Fishery Economic Data Collection

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 6, 2021 during a 60-day comment period. This notice allows for an additional 30 days for public comments.

Agency: National Oceanic and Atmospheric Administration, Commerce.

Title: Generic Clearance for Economic Surveys of the Commercial and Charter Harvesting Sectors of Federally Managed Fisheries: Mariana Archipelago Small Boat Fishery Economic Data Collection.

OMB Control Number: 0648-0823.

Form Number(s): None.

Type of Request: Regular submission [review of a specific survey under an approved generic information collection].

Number of Respondents: 72.

Average Hours per Response: 45 minutes.

Total Annual Burden Hours: 54 hours.

Needs and Uses: The National Oceanic & Atmospheric Administration's National Marine Fisheries Service (NMFS or NOAA Fisheries) has conservation and management responsibilities for many living marine resources and their habitat. NMFS collects and uses economic data to make more than a cursory determination of whether a variety of provisions in the applicable laws, Executive Orders (E.O.s), and NOAA or NMFS strategies and policies have been met by past fishery conservation and management actions or will be met by proposed actions. OMB approved the Generic Clearance for Economic Surveys of the Commercial & Charter Harvesting Sectors of Federally Managed Fisheries. It did that in recognition that by providing relevant economic data, the fishery specific information collections, which NMFS will conduct under that generic clearance, will increase the ability of NMFS and the Regional Fishery Management Councils to monitor, explain and predict changes in the economic performance and impacts of federally managed fisheries. Therefore, those information collections will allow better-informed fishery conservation and management decisions, which will benefit the Nation. With OMB's approval of the Mariana Archipelago Small Boat Fishery Economic Data Collection, NMFS will collect such economic date for that specific fishery.

Affected Public: Individuals or households and Business or other for-profit organizations.

Frequency: Once.

Respondent's Obligation: Voluntary.

Legal Authority: Magnuson-Stevens Fishery Conservation and Management Act (MSA).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0823.

Sheleen Dumas,
Departmental PRA Clearance Officer, Office of the Under Secretary for Economic Affairs, Commerce Department.

[FR Doc. 2024-29219 Filed 12-11-24; 8:45 am]

BILLING CODE 3510-22-P